DEPARTMENT OF COMMERCE

National Oceanic and Atmospheric Administration

RIN 0648-XC10

Western Pacific Pelagic Fisheries, Hawaii-based Longline Swordfish Fishery; Scoping Process

AGENCY: National Marine Fisheries Service (NMFS), National Oceanic and Atmospheric Administration (NOAA), Commerce.

ACTION: Correction.

SUMMARY: The Western Pacific Fishery Management Council (WPFMC) and NMFS have announced their intent to prepare a Supplemental Environmental Impact Statement (SEIS) on the Federal management of the Hawaii-based shallow-set pelagic longline fishery in the western Pacific. This notice corrects the location of an additional opportunity for public involvement.

FOR FURTHER INFORMATION CONTACT: Kitty Simonds, Executive Director, WPFMC, (808) 522-8220, or William L. Robinson, Regional Administrator, NMFS, (808) 944-2200.

SUPPLEMENTARY INFORMATION: In a Federal Register notice published on August 21, 2007 (72 FR 46608), in the SUPPLEMENTARY INFORMATION section, Under the heading “Public Involvement,” the location of the 139th WPFMC meeting on October 9-12, 2007, was incorrect. The correct location is the Pagoda Hotel, 1525 Rycroft St., Honolulu, HI 96814.

Authority: 16 U.S.C. 1801 et seq.

Dated: August 27, 2007.
Emily H. Menashes,
Acting Director, Office of Sustainable Fisheries, National Marine Fisheries Service.

[FR Doc. E7-17349 Filed 8-30-07; 8:45 am]

BILLING CODE 3510-22-S